DEPARTMENT OF THE INTERIOR

Bureau of Land Management

[LLOPRP0600 L51010000.ER0000 LVRWH09H0600; HAG 10-0338]

Notice of Availability of the Final Environmental Impact Statement for the West Butte Wind Power Right-of-Way, Crook and Deschutes Counties, OR

AGENCY: Bureau of Land Management, Interior.

ACTION: Notice of availability.

SUMMARY: In accordance with the National Environmental Policy Act of 1969 (NEPA), the Bureau of Land Management (BLM) Deschutes Resource Area, Prineville, Oregon, has prepared a Final Environmental Impact Statement (EIS) for the West Butte Wind Power Right-of-Way and by this Notice is announcing its availability.

DATES: A Record of Decision (ROD) may be signed no sooner than 30 days after the Environmental Protection Agency publishes its Notice of Availability of the Final EIS in the Federal Register. The availability of the ROD will be announced through a subsequent Federal Register notice.

FOR FURTHER INFORMATION CONTACT: Steve Storo, BLM West Butte Wind Power Right of Way Project Lead: telephone (541) 416-6885; address 3050 NE. 3rd Street, Prineville, Oregon 97754; e-mail: or_west_butte_eis@blm.gov.

SUPPLEMENTARY INFORMATION: The applicant, West Butte Wind Power, LLC, has requested a right-of-way (ROW) authorization to construct 3.9 miles of road and an adjacent power transmission line on public land to support the construction of up to 52 wind turbines and ancillary facilities on adjacent private land. The portion of the project on public lands is the “Proposed Action.” Actions occurring on private land are called “connected actions.” The project is 25 air miles southeast of Bend, Oregon, located on the north side of US Highway 20. The Draft EIS analyzing impacts of the project was released for public comment on April 2, 2010 [75 FR 16828]. Approximately 36 comments were received on the Draft EIS. The comments were incorporated, where appropriate, to clarify the analysis presented in the Final EIS. The Final EIS analyzes a No Action Alternative, the Proposed Action, and one other alternative. These alternatives were shaped in part by comments received from the public and internal BLM review.

Alternative 1—Proposed Action. This alternative includes the granting of a ROW for construction and operation of an access road and transmission line across lands administered by the BLM. Consideration of this alternative includes an analysis of the connected action of West Butte Wind Power constructing and operating a wind farm and associated facilities (e.g., access road, transmission line, substation, and an operations and maintenance building) on privately held lands.

Alternative 2—Northern Access Road Alternative. This alternative includes an analysis of an alternate main access road through the Juniper Acres Development, the facilities related to the connected action as described in Alternative 1, and a ROW through BLM-administered public land for a 3.9-mile transmission line.

Alternative 3—No Action Alternative. This alternative includes denying a ROW for construction and operation of an access road and transmission line across lands administered by the BLM.

The preferred alternative is Alternative 1, the Proposed Action.

Coordination with the U.S. Fish and Wildlife Service is occurring to ensure that an Avian Protection Plan is prepared that will sufficiently address overall project impacts to golden eagles.

Deborah J. Henderson-Norton,
BLM Prineville District Manager.

Authority: 40 CFR 1506.6 and 1506.10

[FR Doc. 2010-24557 Filed 9-30-10; 8:45 am]

BILLING CODE 4310-33-P